DEPARTMENT OF TRANSPORTATION

Federal Aviation Administration

14 CFR Part 39

[Docket No. FAA-2006-25645; Directorate Identifier 2005-NM-201-AD; Amendment 39-14857; AD 2006-25-16]

RIN 2120-AA64

Airworthiness Directives; Bombardier Model CL-600-1A11 (CL-600), CL-600-2A12 (CL-601), and CL-600-2B16 (CL-601-3A and CL-601-3R) Airplanes

AGENCY: Federal Aviation Administration (FAA), Department of Transportation (DOT).

ACTION: Final rule.

SUMMARY: The FAA is adopting a new airworthiness directive (AD) for all Bombardier Model CL-600-1A11 (CL-600), CL-600-2A12 (CL-601), and CL-600-2B16 (CL-601-3A and CL-601-3R) airplanes. This AD requires implementing a corrosion prevention and control program (CPCP) either by accomplishing specific tasks or by revising the maintenance inspection program to include a CPCP. This AD results from the determination that, as airplanes age, they are more likely to exhibit indications of corrosion. We are issuing this AD to prevent structural failure of the airplane due to corrosion.

DATES: This AD becomes effective January 19, 2007.

The Director of the Federal Register approved the incorporation by reference of certain publications listed in the AD as of January 19, 2007.

ADDRESSES: You may examine the AD docket on the Internet at http://dms.dot.gov or in person at the Docket Management Facility, U.S. Department of Transportation, 400 Seventh Street, SW., Nassif Building, Room PL-401, Washington, DC.

Contact Bombardier, Inc., Canadair, Aerospace Group, P.O. Box 6087, Station Centre-ville, Montreal, Quebec H3C 3G9, Canada, for service information identified in this AD.

FOR FURTHER INFORMATION CONTACT: Richard Beckwith, Aerospace Engineer, Airframe and Propulsion Branch, ANE-171, FAA, New York Aircraft Certification Office, 1600 Stewart Avenue, suite 410, Westbury, New York 11590; telephone (516) 228-7302; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Bombardier Model CL-600-1A11 (CL-600), CL-600-2A12 (CL-601), and CL-600-2B16 (CL-601-3A and CL-601-3R) airplanes. That NPRM was published in the Federal Register on August 21, 2006 (71 FR 48487). That NPRM proposed to require implementing a corrosion prevention and control program (CPCP) either by accomplishing specific tasks or by revising the maintenance inspection program to include a CPCP.

Comments

We provided the public the opportunity to participate in the development of this AD. We have considered the comments received.

Request To Change Incorporation of Certain Information

The Modification and Replacement Parts Association (MARPA) states that, typically, airworthiness directives are based on service information originating with the type certificate holder or its suppliers. MARPA adds that manufacturer service documents are privately authored instruments generally having copyright protection against duplication and distribution. MARPA notes that when a service document is incorporated by reference into a public document, such as an airworthiness directive, it loses its private, protected status and becomes a public document. MARPA adds that if a service document is used as a mandatory element of compliance, it should not simply be referenced, but should be incorporated into the regulatory document; by definition, public laws must be public, which means they cannot rely upon private writings.

MARPA adds that incorporated by reference service documents should be made available to the public by publication in the Docket Management System (DMS), keyed to the action that incorporates them. MARPA notes that the stated purpose of the incorporation by reference method is brevity, to keep from expanding the Federal Register needlessly by publishing documents already in the hands of the affected individuals; traditionally, “affected individuals” means aircraft owners and operators, who are generally provided service information by the manufacturer. MARPA adds that a new class of affected individuals has emerged, since the majority of aircraft maintenance is now performed by specialty shops instead of aircraft owners and operators. MARPA notes that this new class includes maintenance and repair organizations, component servicing and repair shops, parts purveyors and distributors, and organizations manufacturing or servicing alternatively certified parts under section 21.303 (“Replacement and modification parts”) of the Federal Aviation Regulations (14 CFR 21.303). MARPA adds that the concept of brevity is now nearly archaic as documents exist more frequently in electronic format than on paper. Therefore, MARPA asks that the service documents deemed essential to the accomplishment of the NPRM be incorporated by reference into the regulatory instrument, and published in DMS.

We do not agree that documents should be incorporated by reference during the NPRM phase of rulemaking. The Office of the Federal Register (OFR) requires that documents that are necessary to accomplish the requirements of the AD be incorporated by reference during the final rule phase of rulemaking. This final rule incorporates by reference the documents necessary for the accomplishment of the requirements mandated by this AD. Further, we point out that while documents that are incorporated by reference do become public information, they do not lose their copyright protection. For that reason, we advise the public to contact the manufacturer to obtain copies of the referenced service information.

In regard to the commenter's request to post service bulletins on the Department of Transportation's DMS, we are currently in the process of reviewing issues surrounding the posting of service bulletins on DMS as part of an AD docket. Once we have thoroughly examined all aspects of this issue and have made a final determination, we will consider whether our current practice needs to be revised. No change to the final rule is necessary in response to this comment.

Request To Revise Cost Estimate

Air Trans Con/Pittco states that the NPRM does not address the required subscription to the CPCP manual. The Bombardier Challenger 600 Time Limits/Maintenance Checks (CPCP) Supplement, PSP 605 (CPCP), dated July 28, 2004 (for Model CL-600-1A11 (CL-600) airplanes); Bombardier Challenger 601 Time Limits/Maintenance Checks (CPCP) Supplement, PSP 601-5 (CPCP), dated July 28, 2004 (for Model CL-600-2A12 (CL-601) airplanes); and Bombardier Challenger 601 Time Limits/Maintenance Checks (CPCP) Supplement, PSP 601A-5 (CPCP), dated July 28, 2004 (for Model CL-600-2B16 (CL-601-3A and CL-601-3R) airplanes); are referred to as the appropriate sources of service information for certain actions specified in the NPRM and are referred to as “the Manual” in this AD. The commenter states that the first-year cost of these manuals would be between $5,000 and $9,000 per airplane. The commenter also notes that the facilities certified to work on the affected airplanes charge $93.00 per work hour plus a service charge of three percent, making an average labor rate of $95.79 per work hour.

We infer that the commenter requests that we revise the cost estimate in the NPRM. We do not agree. In February 2006, we increased the labor rate used in our calculations from $65 per work hour to $80 per work hour to account for various inflationary costs in the airline industry. The $80-per-work-hour number is an estimate and we acknowledge that the rate will vary depending on where an operator accomplishes the actions specified in this AD. However, an AD cannot account for all fleetwide variabilities. We have not revised this AD in this regard.

In addition, we recognize that in accomplishing the requirements of any AD, operators may incur “incidental” costs, such as the time required to gain access and close up, the general cost of doing business, planning time, or time necessitated by other administrative actions, in addition to the “direct” costs that are reflected in the cost analysis presented in the AD preamble. The Manual is necessary to ensure that affected airplanes are operated in an airworthy condition, as required by the Federal Aviation Regulations, but the Manual is a cost of doing business and is necessary to the operator for other reasons not required by this AD, such as developing a maintenance program. The cost analysis in AD rulemaking actions typically includes only the costs of the specific actions required by the AD action. We have not revised this AD in this regard.

Request To Provide Extensions to the Compliance Times

Air Trans Con/Pittco requests that we provide rules and extensions to the compliance times specified in the NPRM as defined in Section 5-20-05, page 2, of the Bombardier Challenger 601 Time Limits/Maintenance Checks (CPCP) Supplement, PSP 601A-5 (CPCP), dated July 28, 2004. The commenter states that the recommended extension tolerance for hourly controlled items is ten percent of the task interval or 45 hours, whichever is the lesser. The commenter also notes that the recommended extension tolerance for calendar controlled items is ten percent of the task interval or two months, whichever is the lesser. The commenter contends that the calendar items in the inspection and maintenance programs are also allowed at the respective interval and to the end of the calendar month for items that are not hard-time items. The commenter states that the NPRM should provide for extension tolerances allowed to individual task intervals other than airworthiness limitations.

We do not agree to allow extensions to the compliance times. Section 5-20-05 is not contained in Bombardier Challenger 601 Time Limits/Maintenance Checks (CPCP) Supplement, PSP 601A-5 (CPCP), dated July 28, 2004, nor are the recommended extension tolerances stated by the commenter. In developing appropriate compliance times for this action, we considered the urgency associated with the subject unsafe condition, the availability of required parts, and the practical aspect of accomplishing the required inspections within a period of time that corresponds to the normal scheduled maintenance for most affected operators. However, according to the procedures in paragraph (n) of the final rule, we may approve requests to adjust the compliance time if the request includes data that prove that the new compliance time would provide an acceptable level of safety. We have not revised the final rule in this regard.

Request To Remove Corrective Action

Air Trans Con/Pittco requests that we remove paragraph (j) of the NPRM. The commenter states that the requirement specified in paragraph (j) to address any corrosion found during the actions specified in the NRPM is redundant with existing rules. The commenter explains that corrosion on any airplane is not listed in the airplane's type certificate data sheet and must be addressed prior to further flight when found during an inspection.

We do not agree to remove paragraph (j) of the final rule. If an unsafe condition is found during any action required by an AD, the AD must specify an appropriate corrective action.

Request To Revise Compliance Time for Reporting to the Manufacturer

Air Trans Con/Pittco requests that we revise the reporting time specified in paragraph (k)(1) of the NPRM from “* * * within 3 days after finding Level 3 corrosion * * *” to “* * * prior to return of service of the aircraft * * *.” The commenter states that all corrosion must be addressed prior to the return to service of the airplane and that Level 3 corrosion will require a remedy by the manufacturer.

We do not agree. It is possible that the corrective action will not be coordinated with the manufacturer, as in the case of parts replacement. Furthermore, waiting until the time of return to service to report Level 3 corrosion could unnecessarily delay reporting, especially when an airplane is down for an extended period. Level 3 corrosion is an urgent airworthiness concern and reporting should not be delayed. We have not revised the final rule in this regard.

Request To Revise Compliance Time for Submitting Scheduling Plan or Providing Data To Substantiate Corrosion Was Isolated

Air Trans Con/Pittco requests that we revise the compliance time specified in paragraph (k)(2) of the NPRM from “* * * within 10 days after finding Level 3 corrosion * * *” to “* * * within 10 days after return to service of the airplane * * *.” The commenter states that most depot-level maintenance and inspections are carried out at facilities that are far from the operator's home base, making it difficult to submit to the local Flight Standards District Office the scheduling plan or the data substantiating that corrosion was isolated.

We do not agree. Waiting until the time of return to service to submit the information could unnecessarily delay implementation of the plan, especially when an airplane is down for an extended period. Level 3 corrosion is an urgent airworthiness concern and a plan to inspect the reminder of the fleet should not be delayed. We have not revised the final rule in this regard.

Request To Impose Response Compliance Time for the FAA

Air Trans Con/Pittco requests that the FAA be required to impose any schedule, other than proposed in a plan submitted by an operator, within 30 calendar days after submission of that plan as specified in paragraph (k)(2) of the NPRM. If there is no response from the FAA within 30 days, the commenter states that the submitted plan should be accepted/approved by default.

We acknowledge that we should respond to operators in a timely manner. However we do not agree to impose a response time on us to either approve a submitted plan or provide another schedule. Level 3 corrosion is an urgent airworthiness concern. We, along with the operator, must address level 3 corrosion with urgency. However, we cannot allow submitted plans to be approved without being reviewed. We must ensure that any plan will prove an acceptable level for the affected fleet. We have not revised this final rule in this regard.

Request To Remove Requirement To Schedule Corrosion Tasks for Transferred Airplanes

Air Trans Con/Pittco requests that we remove the requirement to schedule corrosion tasks for transferred airplanes specified in paragraph (m) of the NPRM. The commenter states that this proposed requirement “* * * impedes commerce and does not address the transferring of an aircraft to or from a foreign operator * * *.” The commenter also states that paragraphs (m)(1) and (m)(2) of the NPRM are vague and are redundant with other proposed requirements in the NPRM.

We do not agree. The new operator of a transferred airplane, whether transferred from another U.S. operator or from an operator from outside the U.S., must establish an acceptable schedule for accomplishing the actions that are required by this AD. Paragraph (m) of this AD is intended to ensure that transferred airplanes are inspected in accordance with the AD on the same basis as if there were continuity in ownership, and that scheduling inspections for each airplane is not delayed or postponed due to a transfer of ownership. Airplanes that have previously been subject to the AD must be inspected in accordance with either the previous operator's or the new operator's schedule, whichever will result in the earlier accomplishment date for that inspection. Other airplanes must be inspected before an operator can begin operating them, or in accordance with a schedule approved by the FAA.

Operators should note that the areas to be inspected are those that are specified in the CPCP tasks required by this AD. Paragraph (m) of this AD states that a schedule to accomplish the CPCP tasks required by this AD must be established in accordance with paragraph (m)(1) or (m)(2) of this AD. We have not revised this AD in this regard.

Conclusion

We have carefully reviewed the available data, including the comments received, and determined that air safety and the public interest require adopting the AD as proposed.

Costs of Compliance

This AD affects about 204 airplanes of U.S. registry. There are between 72 and 74 specific inspections, depending on the applicable Manual. The inspections take about 74 work hours per airplane, per inspection cycle, at an average labor rate of $80 per work hour. Based on these figures, the estimated cost of the AD for U.S. operators is $1,207,680, or $5,920 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-25-16 Bombardier, Inc. (Formerly Canadair): Amendment 39-14857. Docket No. FAA-2006-25645; Directorate Identifier 2005-NM-201-AD.

Effective Date

(a) This AD becomes effective January 19, 2007.

Affected ADs

(b) None.

Applicability

(c) This AD applies to all Bombardier Model CL-600-1A11 (CL-600), CL-600-2A12 (CL-601), and CL-600-2B16 (CL-601-3A and CL-601-3R) airplanes, certificated in any category.

Unsafe Condition

(d) This AD results from the determination that, as airplanes age, they are more likely to exhibit indications of corrosion. We are issuing this AD to prevent structural failure of the airplane due to corrosion.

Compliance

(e) You are responsible for having the actions required by this AD performed within the compliance times specified, unless the actions have already been done.

Manual References

(f) The term “the Manual,” as used in this AD, means the documents specified in paragraphs (f)(1), (f)(2), and (f)(3) of this AD, as applicable. Although the Manual specifies to submit certain information to the manufacturer, this AD requires reporting only Level 3 corrosion.

(1) For Model CL-600-1A11 (CL-600) airplanes: Bombardier Challenger 600 Time Limits/Maintenance Checks (CPCP) Supplement, PSP 605 (CPCP), dated July 28, 2004;

(2) For Model CL-600-2A12 (CL-601) airplanes: Bombardier Challenger 601 Time Limits/Maintenance Checks (CPCP) Supplement, PSP 601-5 (CPCP), dated July 28, 2004; and

(3) For Model CL-600-2B16 (CL-601-3A and CL-601-3R) airplanes: Bombardier Challenger 601 Time Limits/Maintenance Checks (CPCP) Supplement, PSP 601A-5 (CPCP), dated July 28, 2004.

Initial Inspections

(g) At the later of the times specified in paragraphs (g)(1) and (g)(2) of this AD: Perform each of the corrosion prevention and control program (CPCP) tasks, including re-protection actions, as applicable, specified in Paragraph 9, “List of Tasks,” of the applicable Manual, in accordance with the procedures specified in the applicable Manual.

(1) Within 12 months after the effective date of this AD.

(2) At the next CPCP task interval specified in the “Interval” column in the applicable table in Paragraph 9, “List of Tasks,” of the applicable Manual. The times in the “Interval” column are in flight hours unless there is an “M” adjacent to the number. If there is an “M” adjacent to the number, the time is in months. If there are two different numbers for a task, the number with a “T” adjacent to it is the threshold and the number with an “R” adjacent to it is the repetitive interval.

Repetitive Inspections

(h) After accomplishment of each initial CPCP task required by paragraph (g) of this AD, except as provided by paragraph (i) of this AD: Repeat each of the CPCP tasks, and re-protection actions, as applicable, specified in Paragraph 9, “List of Tasks,” of the applicable Manual, at intervals not to exceed the compliance time specified in the “Interval” column in the applicable table in Paragraph 9, “List of Tasks,” of the applicable Manual. The times in the “Interval” column are in flight hours unless there is an “M” adjacent to the number. If there is an “M” adjacent to the number, the time is in months. If there are two different numbers for a task, the number with a “T” adjacent to it is the threshold and the number with an “R” adjacent to it is the repetitive interval.

(i) After accomplishment of each initial CPCP task required by paragraph (g) of this AD, the FAA may approve the incorporation into the operator's approved maintenance/inspection program of either the CPCP specified in the applicable Manual and this AD, or an equivalent program that is approved by the FAA. In all cases, the initial CPCP task for each airplane area must be completed at the compliance time specified in paragraph (g) of this AD. For the purposes of this paragraph, the FAA is defined as the cognizant Flight Standards District Office.

(1) Any operator complying with paragraph (i) of this AD may use an alternative recordkeeping method to that otherwise required by section 91.417 (“Maintenance records”) or section 121.380 (“Maintenance recording requirements”) of the Federal Aviation Regulations (14 CFR 91.417 or 14 CFR 121.380, respectively) for the actions required by this AD, provided that the recordkeeping method is approved by the FAA and is included in a revision to the FAA-approved maintenance/inspection program. For the purposes of this paragraph, the FAA is defined as the cognizant Flight Standards District Office.

(2) After the initial accomplishment of the tasks required by paragraph (g) of this AD, any extension of the repetitive intervals specified in the applicable Manual must be approved by the FAA. For the purposes of this paragraph, the FAA is defined as the Manager, New York Aircraft Certification Office (ACO), FAA.

Corrective Actions

(j) If any corrosion is found during accomplishment of any action required by paragraph (g) or (h) of this AD: Before further flight, rework, repair, or replace, as applicable, all subject parts, in accordance with Paragraph 7, “Application of the CPCP Check,” of the applicable Manual.

Reporting Requirements and Repetitive Actions for Remainder of Affected Fleet

(k) If any Level 3 corrosion, as defined in the Introduction of the applicable Manual, is found during accomplishment of any action required by this AD: Do paragraphs (k)(1), (k)(2), and (k)(3) of this AD. Under the provisions of the Paperwork Reduction Act (44 U.S.C. 3501 et seq.), the Office of Management and Budget (OMB) has approved the information collection requirements contained in this AD, and assigned OMB Control Number 2120-0056.

(1) Within 3 days after the finding of Level 3 corrosion, report findings to Bombardier in accordance with paragraph 7.J. of the applicable Manual.

(2) Within 10 days after the finding of Level 3 corrosion, either submit a plan to the FAA to identify a schedule for accomplishing the applicable CPCP task on the remainder of the airplanes in the operator's fleet that are subject to this AD, or provide data substantiating that the Level 3 corrosion that was found is an isolated case. The FAA may impose a schedule other than proposed in the plan upon finding that a change to the schedule is needed to ensure that any other Level 3 corrosion is detected in a timely manner. For the purposes of this paragraph, the FAA is defined as the cognizant Principal Maintenance Inspector (PMI) for operators that are assigned a PMI (e.g., part 121, 125, and 135 operators), and the cognizant Flight Standards District Office for other operators (e.g., part 91 operators).

(3) Within the time schedule approved in accordance with paragraph (k)(2) of this AD, accomplish the applicable task on the remainder of the airplanes in the operator's fleet that are subject to this AD.

Limiting Future Corrosion Findings

(l) If corrosion findings that exceed Level 1 are found in any area during any repeat of any CPCP task after the initial accomplishment required by paragraph (g) of this AD: Within 60 days after such finding, implement a means approved by the FAA to reduce future findings of corrosion in that area to Level 1 or better. For the purposes of this paragraph, the FAA is defined as the cognizant PMI for operators that are assigned a PMI (e.g. part 121, 125, and 135 operators), and the cognizant Flight Standards District Office for other operators (e.g., part 91 operators).

Scheduling Corrosion Tasks for Transferred Airplanes

(m) Before any airplane subject to this AD is transferred and placed into service by an operator: Establish a schedule for accomplishing the CPCP tasks required by this AD in accordance with paragraph (m)(1) or (m)(2) of this AD, as applicable.

(1) For airplanes on which the CPCP tasks required by this AD have been accomplished previously at the schedule established by this AD: Perform the first CPCP task in each area in accordance with the previous operator's schedule, or in accordance with the new operator's schedule, whichever results in an earlier accomplishment of that CPCP task. After the initial accomplishment of each CPCP task in each area as required by this paragraph, repeat each CPCP task in accordance with the new operator's schedule.

(2) For airplanes on which the CPCP tasks required by this AD have not been accomplished previously, or have not been accomplished at the schedule established by this AD: The new operator must perform each initial CPCP task in each area before further flight or in accordance with a schedule approved by the FAA. For the purposes of this paragraph, the FAA is defined as the cognizant PMI for operators that are assigned a PMI (e.g., part 121, 125, and 135 operators), and the cognizant Flight Standards District Office for other operators (e.g., part 91 operators).

Alternative Methods of Compliance (AMOCs)

(n)(1) The Manager, New York ACO, has the authority to approve AMOCs for this AD, if requested using the procedures found in 14 CFR 39.19.

(2) Before using any AMOC approved in accordance with 14 CFR 39.19 on any airplane to which the AMOC applies, notify the appropriate principal inspector in the FAA Flight Standards Certificate Holding District Office.

Related Information

(o) Canadian airworthiness directive CF-2005-06, dated March 10, 2005, also addresses the subject of this AD.

Material Incorporated by Reference

(p) You must use the applicable service information specified in Table 1 of this AD to perform the actions that are required by this AD, unless the AD specifies otherwise.

Table 1.—Material Incorporated by Reference
Service information | Date
Bombardier Challenger 600 Time Limits/Maintenance | July 28, 2004.
Checks (CPCP) Supplement, PSP 605 (CPCP)
Bombardier Challenger 601 Time Limits/Maintenance | July 28, 2004.
Checks (CPCP) Supplement, PSP 601-5 (CPCP)
Bombardier Challenger 601 Time Limits/Maintenance | July 28, 2004.
Checks (CPCP) Supplement, PSP 601A-5 (CPCP)

The Director of the Federal Register approved the incorporation by reference of these documents in accordance with 5 U.S.C. 552(a) and 1 CFR part 51. Contact Bombardier, Inc., Canadair, Aerospace Group, P.O. Box 6087, Station Centre-ville, Montreal, Quebec H3C 3G9, Canada, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 7, 2006.
Michael J. Kaszycki,
Acting Manager, Transport Airplane Directorate, Aircraft Certification Service.

[FR Doc. E6-21268 Filed 12-14-06; 8:45 am]

BILLING CODE 4910-13-P